DEPARTMENT OF THE INTERIOR

Bureau of Land Management

[NV-010-1990-EX]

Notice of Availability for the Betze Project Draft Supplemental Environmental Impact Statement and Notice of Comment Period and Public Meeting

AGENCY: Bureau of Land Management, Interior.

ACTION: Notice.

SUMMARY: Pursuant to section 102 (2)(C) of the National Environmental Policy Act, 40 CFR 1500-1508 and 43 CFR 3809, notice is given that the Bureau of Land Management has prepared, with the assistance of a third-party consultant, a Draft Supplemental Environmental Impact Statement (SEIS) on Barrick Goldstrike's dewatering operations for the Betze/Post open pit and Meikle underground mines in northeastern Nevada, and has made copies of the document available for public review.

The Draft SEIS analyzes the potential environmental impacts from expanded dewatering operations along with the impacts of a proposed additional pipeline intended to increase flexibility for the mine's water management operations.

DATES: Written comments on the Draft SEIS will be accepted until close of business on November 14, 2000. A public meeting for oral and written comments is scheduled to be held September 26, 2000, in Elko, Nevada, at the Bureau of Land Management Office, 3900 E. Idaho Street at 7:00-9:00 p.m.

ADDRESSES: Written comments on the Draft SEIS should be addressed to: Bureau of Land Management, Elko Field Office; Attn: Kirk Laird, SEIS Coordinator; 3900 E. Idaho Street; Elko, NV 89801.

The Draft SEIS is available for inspection at the following locations: Bureau of Land Management (BLM) Nevada State Office (Reno); BLM Elko Field Office; Eureka, Lander, and Elko County libraries; the University of Nevada libraries in Reno and Las Vegas; and the Great Basin College library in Elko. It is also available from the BLM, Elko Field Office internet site at www.nv.blm.gov/elko.

FOR FURTHER INFORMATION CONTACT: Kirk Laird at the above address or call (775) 753-0200.

SUPPLEMENTARY INFORMATION: Dewatering operations are expected to end in 2010. The dewatering cone of depression is expected to expand for approximately 100 years then diminish until reaching steady state approximately 230 years after the end of mining. Major issues are potential impacts to Threatened and Endangered Species, and impacts to surface resources, including water, wildlife, and vegetation within the dewatering area.

A copy of the Draft SEIS has been sent to all individuals, agencies, and groups who have expressed interest in the project or as mandated by regulation or policy. A limited number of copies are available upon request from the Bureau of Land Management (BLM) at the address listed above. The Draft SEIS is also available at the BLM Elko Field Office website: www.nv.blm.gov/elko. Public participation has occurred during the Environmental Impact Statement process. A Notice of Intent was filed in the Federal Register in August 1994 and subsequently in January 1998. Public scoping meetings to solicit comments and ideas were held in September 1994 and January 1998. All comments presented to the BLM throughout the Environmental Impact Statement process have been considered.

Dated: August 29, 2000.
Helen Hankins,
Field Manager.

[FR Doc. 00-22738 Filed 9-5-00; 8:45 am]

BILLING CODE 4310-HC-P